DEPARTMENT OF HOMELAND SECURITY

Transportation Security Administration

Revision of Agency Information Collection Activity Under OMB Review: Law Enforcement Officers (LEOs) Flying Armed

AGENCY: Transportation Security Administration, DHS.

ACTION: 30-Day notice.

SUMMARY: This notice announces that the Transportation Security Administration (TSA) has forwarded the Information Collection Request (ICR), Office of Management and Budget (OMB) control number 1652-0072, abstracted below, to OMB for review and approval of a revision of the currently approved collection under the Paperwork Reduction Act (PRA). The ICR describes the nature of the information collection and its expected burden. The collection involves gathering information from federal, state, local, tribal, or territorial armed law enforcement officers (LEOs) who require specialized screening at the TSA checkpoint.

DATES: Send your comments by March 13, 2026. A comment to OMB is most effective if OMB receives it within 30 days of publication.

ADDRESSES: Written comments and recommendations for the proposed information collection should be sent within 30 days of publication of this notice to www.reginfo.gov/public/do/PRAMain. Find this particular information collection by selecting “Currently under Review—Open for Public Comments” and by using the find function.

FOR FURTHER INFORMATION CONTACT: Christina A. Walsh, TSA PRA Officer, Information Technology, TSA-11, Transportation Security Administration, 6595 Springfield Center Drive, Springfield, VA 20598-6011; telephone (571) 227-2062; email TSAPRA@tsa.dhs.gov.

SUPPLEMENTARY INFORMATION: TSA published a Federal Register notice, with a 60-day comment period soliciting comments, of the following collection of information on August 1, 2025, 90 FR 36172. TSA did not receive any comments on the notice.

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Law Enforcement Officers (LEOs) Flying Armed.

Type of Request: Revision of a currently approved collection.

OMB Control Number: 1652-0072.

Form(s): TSA Form 413A, Checkpoint Sign-In Log.

Affected Public: Federal, state, local, tribal, or territorial armed LEOs.

Abstract: Under 49 CFR 1540.111(b), LEOs may carry a firearm or other weapons while in the performance of law enforcement duties at the airport and may also fly armed if they meet the specific requirements in 49 CFR 1544.219. When flying armed, federal, state, local, tribal, or territorial LEOs must also comply with specialized screening processes. To document completion of TSA's specialized screening process, LEOs who pass through a TSA checkpoint must complete TSA Form 413A, Checkpoint Sign-In Log.

TSA is revising the information collection by changing the identification of weapons section of the form, “Carrying:” to “Are you carrying?” and adding the option “Unarmed LEO Escort.” In addition, TSA is changing the question, “Completed Required LEO Flying Armed Training?” to “Completed Required TSA LEO Flying Armed Training?” TSA is making the changes for programmatic needs to capture information of unarmed escorts ¹ and to differentiate the TSA administered course from local, state, and other LEO Flying Armed Training courses.

¹ Unarmed LEOs may escort individuals, including dignitaries, prisoners, deserters, detainees, or deportees to foreign destinations.

Estimated Annual Number of Respondents: 83,749.

Estimated Annual Number of Burden Hours: 5,583.27.

Dated: February 9, 2026.
Christina A. Walsh,
Paperwork Reduction Act Officer, Information Technology, Transportation Security Administration.

[FR Doc. 2026-02722 Filed 2-10-26; 8:45 am]

BILLING CODE 9110-05-P